ENVIRONMENTAL PROTECTION AGENCY

[ER-FRL-6678-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in the Federal Register dated April 7, 2006 (71 FR 17845).

Draft EISs

EIS No. 20060151, ERP No. D-BLM-K65307-00, Eagle Lake Field Office Project, Resource Management Plan, Implementation, Lassen, Plumas, Sierra Counties, CA and Washoe County, NV.

Summary: EPA expressed environmental concerns about impacts to water quality and riparian resources from grazing and off-highway vehicle activities.

Rating EC2.

EIS No. 20060253, ERP No. D-AFS-K65311-NV, Jarbidge Ranger District Rangeland Management Project, Authorize Continued Livestock Grazing, Humboldt-Toiyabe National Forest, Columbia River, NV.

Summary: EPA expressed environmental concerns about impacts to riparian resources and with the use of annual indicators under the proposed action. EPA requested additional information on implementation of these indicators as well as permitted compliance. EPA recommended more specific action be taken to protect stream banks and prevent the spread of noxious weeds.

Rating EC2.

EIS No. 20060271, ERP No. D-CGD-A11078-00, Programmatic—Implementation of the U.S. Coast Guard Nationwide Automatic Identification System Project, Providing Vessel Identification, Tracking and Information Exchange Capabilities to Support National Maritime Interests,

Summary: EPA does not object to the proposed action

Rating LO.

EIS No. 20060275, ERP No. D-AFS-L65517-0R, Maury Mountains Allotment Management Plan, To Implement or Eliminate Livestock Grazing in Six Allotments in the Maury Mountains of the Ochoco National Forest, Prineville, OR.

Summary: EPA does not object to the proposed project.

Rating LO.

EIS No. 20060276, ERP No. D-FRC-D03032-TX, Calhoun Point Comfort Liquefied Natural Gas (LNG) Project, (Docket Nos. CP05-91-000 and CP06-380-00) Construction of New Pipeline on 73 acres, Port of Port Lavaca, Calhoun and Jackson Counties, TX.

Summary: EPA does not object to the preferred action.

Rating LO.

Final EISs

EIS No. 20060232, ERP No. F-AFS-C65005-NY, Finger Lakes National Forest Project, Proposed Land and Resource Management Plan, Forest Plan Revision, Implementation, Seneca and Schuyler Counties, NY.

Summary: EPA's previous concerns have been resolved; therefore, EPA does not object to the proposed action.

EIS No. 20060251, ERP No. F-USA-L11037-AK, U.S. Army Alaska Battle Area Complex (BAX) and a Combined Arms Collective Training Facility (CACTF), Construction and Operation, Selection of the Preferred Alternative, within U.S. Army Training Lands in Alaska.

Summary: EPA recommended that the 404(b)(1) evaluation be included in the Record of Decision.

EIS No. 20060260, ERP No. F-BLM-L65484-AK, East Alaska Draft Resource Management Plan (RMP), Provide a Single Comprehensive Land Use Plan, Implementation, Glennallen Field Office District, AK.

Summary: EPA's previous concerns have been resolved; therefore, EPA does not object to the proposed action.

EIS No. 20060282, ERP No. F-BLM-K65292-CA, Southern Diablo Mountain Range and Central Coast of California Resource Management Plan, Several Counties, CA.

Summary: EPA continues to express concerns about grazing impacts to watersheds and rangeland health. EPA recommended BLM bring all allotments into compliance with the standards and guidelines.

EIS No. 20060303, ERP No. F-NOA-E90018-GA, Gray's Reef National Marine Sanctuary Draft Management Plan (DMP), Address Current Resource Conditions and Compatible Multiple Uses, Located 17.5 Nautical mile off Sapelo Island, GA.

Summary: EPA supports the Management Plan for Grays Reef National Marine Sanctuary and therefore has no objection to the proposed action.

EIS No. 20060344, ERP No. F-AFS-K65300-AZ, Deep Lake Allotment Project, Proposes to Re-authorize Grazing, Mormon Lake Ranger District, Coconino National District, Coconino County, AZ.

Summary: No formal comment letter was sent to the preparing agency.

EIS No. 20060327, ERP No. FS-AFS-K65283-CA, Empire Vegetation Management Project, Additional Information to Clarify Previous Analysis, Vegetation, Fire/Fuels/Air Quality, Wildlife, Watershed, and Botanical Resource/Noxious Weeds, Mount Hough Ranger District, Plumas National Forest, Plumas County, CA.

Summary: No formal comment letter was sent to the preparing agency.

Dated: August 29, 2006.
Robert W. Hargrove,
Director, NEPA Compliance Division, Office of Federal Activities.

[FR Doc. E6-14534 Filed 8-31-06; 8:45 am]

BILLING CODE 6560-50-P